FEDERAL COMMUNICATIONS COMMISSION

[OMB 3060-1222; FR ID 66690]

Information Collection Being Reviewed by the Federal Communications Commission

AGENCY: Federal Communications Commission.

ACTION: Notice and request for comments.

SUMMARY: As part of its continuing effort to reduce paperwork burdens, and as required by the Paperwork Reduction Act (PRA) of 1995, the Federal Communications Commission (FCC or the Commission) invites the general public and other Federal agencies to take this opportunity to comment on the following information collection. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees. The FCC may not conduct or sponsor a collection of information unless it displays a currently valid control number. No person shall be subject to any penalty for failing to comply with a collection of information subject to the PRA that does not display a valid Office of Management and Budget (OMB) control number.

DATES: Written PRA comments should be submitted on or before March 15, 2022. If you anticipate that you will be submitting comments, but find it difficult to do so within the period of time allowed by this notice, you should advise the contact listed below as soon as possible.

ADDRESSES: Direct all PRA comments to Nicole Ongele, FCC, via email PRA@fcc.gov and to nicole.ongele@fcc.gov.

FOR FURTHER INFORMATION CONTACT: For additional information about the information collection, contact Nicole Ongele, (202) 418-2991.

SUPPLEMENTARY INFORMATION: OMB Control Number: 3060-1222.

Title: Inmate Calling Services (ICS) Provider Annual Reporting, Certification, Consumer Disclosure, and Waiver Request Requirements.

Form Number(s): FCC Form 2301(a) and FCC Form 2301(b).

Type of Review: Revision of a currently approved collection.

Respondents: Business or other for-profit.

Number of Respondents and Responses: 20 respondents; 23 responses.

Estimated Time per Response: 5 hours-120 hours.

Frequency of Response: Annual reporting and certification requirements, third party disclosure and waiver request requirements.

Obligation to Respond: Required to obtain or retain benefits. Statutory authority for this collection of information is contained in sections 1, 4(i)-4(j), 201(b), 218, 220, 225, 255, 276, 403, and 617 of the Communications Act of 1934, as amended, 47 U.S.C. 151, 154(i)-(j), 201(b), 218, 220, 225, 255, 276, 403 and 617.

Total Annual Burden: 3,740 hours.

Total Annual Cost: No cost.

Privacy Act Impact Assessment: No impact(s).

Nature and Extent of Confidentiality: The Protective Order in the Commission's inmate calling services (ICS) proceeding, WC Docket 12-375, 28 FCC Rcd 16954 (WCB 2013), provides confidential treatment for the proprietary information submitted by (ICS providers in response to the Commission's directives. The Commission will treat as presumptively confidential any particular information identified as confidential by the provider in accordance with the Freedom of Information Act and Commission rules. Each confidential document should be stamped and submitted to the Secretary's Office with an accompanying cover letter, as specified by the Protective Order.

Needs and Uses: Section 201 of the Communications Act of 1934, as amended (Act), 47 U.S.C 201, requires that ICS providers' interstate and international rates and practices be just and reasonable. Section 276 of the Act, 47 U.S.C. 276, requires that payphone service providers (including ICS providers), be fairly compensated for completed calls.

In 2015, the Commission released the Second Report and Order and Third Notice of Further Proposed Rulemaking, WC Docket No. 12-375, 30 FCC Rcd 12763 (2015 ICS Order), in which the Commission required that ICS providers file Annual Reports providing data and other information on their ICS operations, as well as Annual Certifications that reported data are complete and accurate and comply with the Commission's ICS rules. Pursuant to the authority delegated it by the Commission in the 2015 ICS Order, the Wireline Competition Bureau (Bureau) created standardized reporting templates (FCC Form No. 2301(a)) and a related certification of accuracy (FCC Form No. 2301(b)), as well as instructions to guide providers through the reporting process. The instructions explain the reporting and certification requirements and reduce the burden of the data collection. (ICS Annual Reporting Form (2017-2019), available at https://www.fcc.gov/general/ics-data-collections; ICS Annual Reporting Certification Form, available at https://www.fcc.gov/general/ics-data-collections).

In 2021, the Commission released the Third Report and Order, Order on Reconsideration, and Fifth Further Notice of Proposed Rulemaking WC Docket No. 12-375, 36 FCC Rcd (2021) (2021 ICS Order), which continued the Commission's reform of its ICS rules. The Commission revised its rules by adopting, among other things, lower interim rate caps for interstate calls, new interim rate caps for international calls, and a new rate cap structure that requires ICS providers to differentiate between legally mandated and contractually required site commissions.

On December 15, 2021, the Bureau issued a Public Notice seeking comment on its proposed revisions to the instructions and templates for the Annual Reports and Certifications submitted by ICS providers. The Bureau proposed to revise the instructions and templates for the Annual Reports, Certifications, and Instructions to be consistent with the Commission's rules and to reflect improvements based on the Bureau's experience reviewing prior Annual Reports. Notice of this document was published in the Federal Register on January 4, 2022 (87 FR 212). The Bureau will consider comments submitted in response to the Public Notice in addition to comments submitted in response to this 60-Day Notice in finalizing this information collection prior to submitting the documents to the Office of Management and Budget.

Federal Communications Commission.
Marlene Dortch,
Secretary, Office of the Secretary.

[FR Doc. 2022-00660 Filed 1-13-22; 8:45 am]

BILLING CODE 6712-01-P